DEPARTMENT OF HOMELAND SECURITY

Transportation Security Administration

Opening of Application Period for Third-Party Canine-Cargo Certifiers

AGENCY: Transportation Security Administration, DHS.

ACTION: Notice.

SUMMARY: The Transportation Security Administration (TSA) is opening a 90-day window for applications to be a third-party canine-cargo certifying organization. Successful applicants will be required to sign and comply with an Order issued by TSA. Approved certifying organizations will assess third-party explosives detection canine teams to determine whether they meet TSA's standards for screening air cargo. This notice provides information necessary for qualified, interested persons to obtain the application.

DATES:

Opening Date: Applications will be accepted beginning 12:01 a.m. (EDT) on May 21, 2018.

Closing Date: Applications under this notice must be received no later than 11:59 p.m. (EDT) on August 19, 2018.

ADDRESSES: Interested parties can contact 3PKCert@tsa.dhs.gov to obtain a copy of the application package.

FOR FURTHER INFORMATION CONTACT: Noah Burnett, 3PK9-C Team, Canine Training Center, Office of Training and Development, Transportation Security Administration, U.S. Department of Homeland Security; email to 3PKCert@tsa.dhs.gov; telephone at (210) 396-4425 (desk); fax to (210) 671-4911.

SUPPLEMENTARY INFORMATION:

Background

TSA created the Third-Party Canine-Cargo (3PK9-C) Program, under TSA's regulations for Certified Cargo Screening Programs (CSSP), see 49 CFR part 1549, to provide an efficient and effective method for screening air cargo to TSA's standards. Under this program, third-party canine teams trained in explosives detection can be certified by a non-governmental entity, acting under the approval of TSA, as meeting TSA's certification standards. Certified 3PK9-C teams can be deployed to screen air cargo for aircraft operators, foreign air carriers, and other TSA-regulated parties operating under a TSA-approved or accepted security program.

TSA is seeking applications from qualified persons interested in becoming an approved 3PK9-C Certifier under the 3PK9-C Program. All applicants must meet the minimal qualifications before their application will be evaluated to determine whether the applicant meets TSA's requirements.

The evaluation process will assess whether the applicant meets TSA's requirements. Applications received between 12:01 a.m. (EDT) on May 21, 2018 and 11:59 p.m. (EDT) on August 19, 2018, will be reviewed on a rolling basis. If the agency determines that an applicant meets TSA's requirements, TSA will provide the applicant with a copy of a binding Order ¹ that must be signed before the applicant becomes a participant in the program as a 3PK9-C Certifier. Failure to comply with the 3PK9-C Certifier Order may result in removal from the program and/or enforcement action against the 3PK9-C Certifier. TSA may require the 3PK9-C Certifier to submit additional information under the Order and complete orientation before being approved by TSA to commence operations.

¹ The Order for 3PK9-C Certifiers will not be available to the public as it contains information that cannot be publicly disclosed under 49 CFR part 1520. Applicants that complete the required vetting processes and other agreements necessary for release of Sensitive Security Information (SSI), including documenting a “need to know,” will be provided a copy of the Order as part of the application process.

Under this program, 3PK9-C Certifiers are authorized to conduct certifications and make determinations as to whether canine teams meet TSA's standards as specified in the Order. Selection as a 3PK9-C Certifier does not indicate any of the following:

• An award of a government-issued contract or financial support from TSA (no Federal funding will be expended for certification of canine teams under the 3PK9-C program).

• A guarantee of any minimum work or funding.

TSA must ensure the certification of canine teams under the 3PK9-C Program will be conducted in an appropriate, consistent and verifiable manner. In general, TSA will review applications to determine whether:

• The applicant demonstrates expert knowledge of critical test and evaluation concepts to certify canine teams for the detection of explosives (for example, management of certification data, explosives training aids, use and safety, etc.).

• The applicant demonstrates sufficient past performance and expertise in performing explosive detection canine team certifications.

TSA will make its determinations based on the information submitted by the applicant in its application. Therefore, applicants are encouraged to ensure they provide complete information related to all requirements. TSA may contact the applicant with questions and/or requests for clarification during the review of submitted materials.

Applicants will be required to attest that they meet or will be able to meet the minimal qualification standards identified below. These minimum requirements must be sustained throughout the applicant's participation in the 3PK9-C Program.

1. Has or can obtain permission from TSA to receive, store, and protect SSI in accordance with TSA regulations and policies (see footnote 1).

2. All proprietors, general partners, officers, directors, or owners of the applicant, as well as all employees who will perform activities pursuant to this application or the 3PK9-C Certifier Order, have successfully completed or are able to successfully complete a security threat assessment (STA) identified in 49 CFR part 1540, subpart C.

3. Has necessary resources and personnel to implement and sustain the certification plan submitted with the application.

4. Can comply with applicable Federal, state and local regulations regarding the safe handling and storage of explosives.

5. For each 3PK9-C Certifier employee who will be conducting certification activities, ensure the individual has a minimum of five years of explosives and/or narcotics detection experience in conducting certifications with one or more of the following organizations:

a. United States Police Canine Association (USPCA),

b. North American Police Working Dog Association (NAPWDA),

c. International Police Working Dog Association (IPWDA),

d. Bureau of Alcohol, Tobacco, Firearms and Explosives (ATF), Department of Defense (DoD), or other Federal government agencies,

e. TSA, or

f. Similar organization that TSA approves as having a commensurate level of certifications for the purpose of the 3PK9-CP.

6. Can provide 3PK9-C certifications at air cargo/shipping locations throughout the United States as defined in 49 CFR part 1500.3.

7. Must have capability to video record certification events and maintain recordings in digital format for a minimum of two years.

8. Must ensure the applicant will not conduct assessments for which there exists a conflict of interest as defined in the 3PK9-C Certifier Order.

Interested persons can obtain a copy of the application instructions by submitting a request for information to the email address noted under ADDRESSES.

Dated: May 14, 2018.
Kimberly Walton,
Chief of Mission Support.

[FR Doc. 2018-10636 Filed 5-17-18; 8:45 am]

BILLING CODE 9110-05-P